DEPARTMENT OF STATE

[Public Notice 10790]

60-Day Notice of Proposed Information Collection: SAMS-Domestic Results Performance Module (SAMS-D RPM)

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to February 7, 2020.

ADDRESSES: You may submit comments by the following method:

• Web: Persons with access to the internet may comment on this notice by going to www.Regulations.gov. You can search for the document by entering “Docket Number: DOS-2019-0017” in the Search field. Then click the “Comment Now” button and complete the comment form.

You must include the DS form number (if applicable), information collection title, and the OMB control number in any correspondence.

FOR FURTHER INFORMATION CONTACT: Direct requests for additional information regarding the collection listed in this notice, including requests for copies of the proposed collection instrument and supporting documents, may be sent to Natalie Donahue, Chief of Evaluation, Bureau of Educational and Cultural Affairs, who may be reached at (202) 632-6193 or DonahueNR@state.gov.

SUPPLEMENTARY INFORMATION: • Title of Information Collection: SAMS-Domestic Results Performance Module (SAMS-D RPM).

• OMB Control Number: None.

• Type of Request: New collection.

• Originating Office: Educational and Cultural Affairs (ECA/P/V).

• Form Number: No form.

• Respondents: Implementing partners of ECA grants and cooperative agreements.

• Estimated Number of Respondents: 100.

• Estimated Number of Responses: 250 per year (most respondents report on a semi-annual basis; though there are some that will report more frequently).

• Average Time per Response: 20 hours.

• Total Estimated Burden Time: 5,000 hours per year.

• Frequency: At least twice per year.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

As a normal course of business and in compliance with OMB Guidelines contained in Circular A-110, recipient organizations are required to provide, and the U.S. State Department required to collect, periodic program and financial performance reports. The responsibility of the State Department to track and monitor the programmatic and financial performance necessitates a database that can help facilitate this in a consistent and standardized manner. The SAMS-D RPM enables enhanced monitoring and evaluation of grants and cooperative agreements through standardized collection and storage of relevant award elements, such as quarterly progress reports, workplans, results monitoring plans, grant agreements, financial reports, and other business information related to ECA implementing partners. The SAMS-D RPM streamlines communication with implementers and allows for rapid identification of information gaps for specific projects.

Methodology

Information will be entered into SAMS-D RPM electronically by respondents (ECA implementing partners). Non-respondents will submit their quarterly reports on paper.

Aleisha Woodward,
Deputy Assistant Secretary for Policy.

[FR Doc. 2019-26436 Filed 12-6-19; 8:45 am]

BILLING CODE 4710-05-P